DEPARTMENT OF TRANSPORTATION

Federal Railroad Administration

[Docket Number FRA-2017-0044]

Petition for Waiver of Compliance

Under part 211 of Title 49 Code of Federal Regulations (CFR), this document provides the public notice that on November 28, 2016, the Village of New Lenox, IL, (Village) petitioned the Federal Railroad Administration (FRA) for a waiver of compliance from certain provisions of the Federal railroad safety regulations contained at 49 CFR 222.9. FRA assigned the petition Docket Number FRA-2017-0044.

The Village is seeking a waiver from the definition of a non-traversable curb in 49 CFR 222.9, to allow for quiet zone risk reduction credit for the 6-inch high medians that extend approximately 330 feet to the west of the Laraway Road crossing (DOT #478794H) and 655 feet to the east of the crossing. Specifically, New Lenox is requesting an exception to the requirement that non-traversable curbs may be used only at locations where highway speeds do not exceed 40 mph.

The Village asserts the Laraway Road crossing is under the jurisdiction of the Will County Department of Transportation, which is unwilling to reduce the current 45 mph highway speed limit at the crossing. Therefore, while the current highway speed limit would likely remain unchanged, the Village notes that the Will County Division of Transportation would be willing to install 40-mph speed advisory signs approximately 300 feet in advance of the Laraway Road crossing for both eastbound and westbound highway traffic.

A copy of the petition, as well as any written communications concerning the petition, is available for review online at www.regulations.gov and in person at the U.S. Department of Transportation's (DOT) Docket Operations Facility, 1200 New Jersey Ave. SE., W12-140, Washington, DC 20590. The Docket Operations Facility is open from 9 a.m. to 5 p.m., Monday through Friday, except Federal Holidays.

Interested parties are invited to participate in these proceedings by submitting written views, data, or comments. FRA does not anticipate scheduling a public hearing in connection with these proceedings since the facts do not appear to warrant a hearing. If any interested parties desire an opportunity for oral comment and a public hearing, they should notify FRA, in writing, before the end of the comment period and specify the basis for their request.

All communications concerning these proceedings should identify the appropriate docket number and may be submitted by any of the following methods:

• Web site: http://www.regulations.gov. Follow the online instructions for submitting comments.

• Fax: 202-493-2251.

• Mail: Docket Operations Facility, U.S. Department of Transportation, 1200 New Jersey Avenue SE., W12-140, Washington, DC 20590.

• Hand Delivery: 1200 New Jersey Avenue SE., Room W12-140, Washington, DC 20590, between 9 a.m. and 5 p.m., Monday through Friday, except Federal Holidays.

Communications received by August 4, 2017 will be considered by FRA before final action is taken. Comments received after that date will be considered if practicable.

Anyone can search the electronic form of any written communications and comments received into any of our dockets by the name of the individual submitting the comment (or signing the document, if submitted on behalf of an association, business, labor union, etc.). Under 5 U.S.C. 553(c), DOT solicits comments from the public to better inform its processes. DOT posts these comments, without edit, including any personal information the commenter provides, to www.regulations.gov, as described in the system of records notice (DOT/ALL-14 FDMS), which can be reviewed at https://www.transportation.gov/privacy. See also https://www.regulations.gov/privacyNotice for the privacy notice of regulations.gov.

Robert C. Lauby,
Associate Administrator for Railroad Safety Chief Safety Officer.

[FR Doc. 2017-12797 Filed 6-19-17; 8:45 am]

BILLING CODE 4910-06-P